DEPARTMENT OF HEALTH AND HUMAN SERVICES

Health Resources and Services Administration

National Advisory Council on Migrant Health; Notice of Meeting

In accordance with section 10(a)(2) of the Federal Advisory Committee Act (Public Law 92-463), notice is hereby given of the following meeting:

Name: National Advisory Council on Migrant Health.

Dates and Times: April 30, 2003, 9:30 a.m. to 5 p.m., May 1, 2003, 8:30 a.m. to 12 noon.

Place: San Carlos Hotel, 202 North Central Avenue, Phoenix, Arizona 85004, Phone: (602) 253-4121 Fax (602) 253-6668.

Status: The meeting will be open to the public.

Agenda: The agenda includes an overview of general Council business activities and priorities. Topics to be addressed will include orientation of new Council members and restructuring subcommittees. In addition, the Council will begin preliminary work on the 2003 recommendations to the Secretary. Finally, the Council will attend the National Association of Community Health Centers' 2003 National Farmworker Health Conference, which is also being held in Phoenix at this time. Agenda items are subject to change as priorities indicate.

For Further Information Contact: Anyone requiring information regarding the Council should contact: Benito Velazquez or Gladys Cate, Migrant Health Program, staff support to the National Advisory Council on Migrant Health, Bureau of Primary Health Care, Health Resources and Services Administration, 4350 East-West Highway, Bethesda, Maryland 20814, Telephone (301) 594-4064.

Dated: March 27, 2003.
Jane M. Harrison,
Director, Division of Policy Review and Coordination.

[FR Doc. 03-8013 Filed 4-2-03; 8:45 am]

BILLING CODE 4165-15-P